DEPARTMENT OF COMMERCE

International Trade Administration

[A-570-916]

Laminated Woven Sacks From the People's Republic of China: Preliminary Results of Antidumping Duty Administrative Review; 2012-2013

AGENCY: Enforcement and Compliance, formerly Import Administration, International Trade Administration, Department of Commerce.

SUMMARY: In response to a request from the Laminated Woven Sacks Committee (“Petitioner”), the Department of Commerce (“the Department”) initiated an administrative review of the antidumping duty Order on laminated woven sacks from the People's Republic of China (“PRC”).1 2 The administrative review covers nine ³ PRC companies for the period of review (“POR”) August 1, 2012, through July 31, 2013. No other party requested review of these nine companies. We invite interested parties to comment on these preliminary results.

¹ See Initiation of Antidumping and Countervailing Duty Administrative Reviews and Request for Revocation, in Part, 78 FR 60834 (October 2, 2013) (“Initiation Notice”).

² See Notice of Antidumping Duty Order: Laminated Woven Sacks From the People's Republic of China, 73 FR 45941 (August 7, 2008) (“Order”).

³ The nine companies are: Cangnan Color Make the Bag; Han Shing Corporation Limited; Jiangsu Hotsun Plastics; Ningbo Yong Feng Packaging Co., Ltd.; Polywell Industrial Co.; Shandong Qilu Plastic Fabric Group, Ltd.; Shandong Shouguang Jianyuanchun Co.; Shandong Youlian Subian Co. Ltd.; and Zibo Aifudi Plastic Packaging Co., Ltd.

DATES: Effective Date: February 27, 2014.

FOR FURTHER INFORMATION CONTACT: Irene Gorelik, AD/CVD Operations, Office V, Enforcement and Compliance, International Trade Administration, U.S. Department of Commerce, 14th Street and Constitution Avenue NW., Washington, DC 20230; telephone: (202) 482-6905.

SUPPLEMENTARY INFORMATION: On October 2, 2013, the Department initiated an administrative review of the Order on laminated woven sacks from the PRC covering nine PRC firms for the POR.⁴ As explained in the memorandum from the Assistant Secretary for Enforcement and Compliance, the Department has exercised its discretion to toll deadlines for the duration of the closure of the Federal Government from October 1, through October 16, 2013.⁵ Therefore, all deadlines in this review have been extended by 16 days.

⁴ See Initiation Notice.

⁵ See “Memorandum for the Record from Paul Piquado, Assistant Secretary for Enforcement and Compliance, `Deadlines Affected by the Shutdown of the Federal Government,' ” dated October 18, 2013.

The merchandise covered by the Order ⁶ is laminated woven sacks.⁷ Laminated woven sacks are bags or sacks consisting of one or more plies of fabric consisting of woven polypropylene strip and/or woven polyethylene strip, regardless of the width of the strip; with or without an extrusion coating of polypropylene and/or polyethylene on one or both sides of the fabric; laminated by any method either to an exterior ply of plastic film such as biaxially-oriented polypropylene (“BOPP”) or to an exterior ply of paper that is suitable for high quality print graphics. Effective July 1, 2007, laminated woven sacks are classifiable under Harmonized Tariff Schedule of the United States (“HTSUS”) subheadings 6305.33.0050 and 6305.33.0080. Laminated woven sacks were previously classifiable under HTSUS subheading 6305.33.0020.⁸ The HTSUS subheadings are provided for convenience and customs purposes only; the written product description of the scope of the order is dispositive.

⁶ See Order.

⁷ See “Decision Memorandum for the Preliminary Results of the 2012-2013 Administrative Review: Laminated Woven Sacks from the People's Republic of China,” from Gary Taverman, Senior Advisor for Antidumping and Countervailing Duty Operations, to Paul Piquado, Assistant Secretary for Import Administration, (“Preliminary Decision Memorandum”), dated concurrently with these results for a complete description of the Scope of the Order.

⁸ Additional HTSUS considerations apply. See Preliminary Decision Memorandum.

Methodology

The Department has conducted this review in accordance with section 751(a)(2) of the Tariff Act of 1930, as amended (“the Act”). For a full description of the methodology underlying our conclusions, see the Preliminary Decision Memorandum, which is hereby adopted by this notice. The Preliminary Decision Memorandum is a public document and is on file electronically via Enforcement and Compliance's Antidumping and Countervailing Duty Centralized Electronic Service System (IA ACCESS). IA ACCESS is available to registered users at http://iaaccess.trade.gov and in the Central Records Unit, room 7046 of the main Department of Commerce building. In addition, a complete version of the Preliminary Decision Memorandum can be accessed directly on the Internet at http://iaaccess.trade.gov. The signed Preliminary Decision Memorandum and the electronic versions of the Preliminary Decision Memorandum are identical in content.

Background

The Initiation Notice states that “{i}f a producer or exporter named in this notice of initiation had no exports, sales, or entries during the period of review . . . it must notify the Department within 60 days of publication of this notice in the Federal Register.” ⁹ None of the nine companies initiated for review filed “no shipment” certifications. The Initiation Notice also notifies the firms initiated for review that they “must complete, as appropriate, either a separate rate application or certification” if they want to qualify for a separate rate in this administrative review.¹⁰ None of the nine companies initiated for review filed separate rate certifications or applications. Thus, because none of the nine companies initiated for review have provided the Department with either a “no shipment” certification or separate rate eligibility documentation, we preliminarily find that these nine companies should be treated as part of the PRC-wide entity.¹¹

⁹ See Initiation Notice, 78 FR 60834-60835.

¹⁰ See id., at 60835.

¹¹ See the Preliminary Decision Memorandum.

Preliminary Results of Review

The Department preliminarily determines that the following dumping margin exists for the period August 1, 2012, through July 31, 2013:

¹² The companies for which a review was requested and which we preliminarily determine are part of the PRC-wide entity include: Cangnan Color Make the Bag; Han Shing Corporation Limited; Jiangsu Hotsun Plastics; Ningbo Yong Feng Packaging Co., Ltd.; Polywell Industrial Co.; Shandong Qilu Plastic Fabric Group, Ltd.; Shandong Shouguang Jianyuanchun Co.; Shandong Youlian Subian Co. Ltd.; and Zibo Aifudi Plastic Packaging Co., Ltd.

¹³ The PRC-wide entity rate was re-calculated from 91.73 percent to 47.64 percent pursuant to Implementation of Determinations Under Section 129 of the Uruguay Round Agreements Act: Certain New Pneumatic Off-the-Road Tires; Circular Welded Carbon Quality Steel Pipe; Laminated Woven Sacks; and Light-Walled Rectangular Pipe and Tube From the People's Republic of China, 77 FR 52683 (August 30, 2012), effective August 21, 2012.

Exporter | Margin (percent)
PRC-Wide Entity ¹² | ¹³ 47.64

Public Comment

Interested parties are invited to comment on these preliminary results and submit written arguments or case briefs within 30 days after the date of publication of this notice, unless otherwise notified by the Department (see 19 CFR 351.309(c)(ii)). Parties are reminded that they should not submit new factual information in written arguments or case briefs. Rebuttal briefs, limited to issues raised in the case briefs, will be due five days later (see 19 CFR 351.309(d)). Parties who submit case or rebuttal briefs are requested to submit with each argument: (1) A statement of the issue; and (2) a brief summary of the argument. Parties are requested to provide a summary of the arguments not to exceed five pages and a table of statutes, regulations, and cases cited.¹⁴

¹⁴ See, generally, 19 CFR 351.303 for filing requirements.

Interested parties who wish to request a hearing, or to participate if one is requested, must submit a written request to the Assistant Secretary for Enforcement and Compliance, U.S. Department of Commerce, filed electronically using IA ACCESS (see 19 CFR 351.310(c)). An electronically filed document must be received successfully in its entirety by the Department's electronic records system, IA ACCESS, by 5 p.m. Eastern Time within 30 days after the date of publication of this notice. Requests should contain the party's name, address, and telephone number, the number of participants, and a list of the issues to be discussed. If a request for a hearing is made, the Department will inform parties of the scheduled date for the hearing which will be held at the U.S. Department of Commerce, 14th Street and Constitution Avenue NW., Washington, DC 20230, at a time and location to be determined. Parties should confirm by telephone the date, time, and location of the hearing.

The Department intends to issue the final results of this administrative review, including the results of our analysis of issues raised in the written comments, within 120 days of publication of these preliminary results in the Federal Register.

Assessment Rates

Upon issuance of the final results, the Department will determine, and U.S. Customs and Border Protection (“CBP”) shall assess, antidumping duties on all appropriate entries. The Department intends to issue assessment instructions to CBP 15 days after the date of publication of the final results of review. The Department announced a refinement to its assessment practice in non-market economy (“NME”) cases.¹⁵ Pursuant to this refinement in practice, for entries that were not reported by companies examined during this review, the Department will instruct CBP to liquidate such entries at the NME-wide rate. In addition, if the Department determines that an exporter under review had no shipments of the subject merchandise, any suspended entries that entered under that exporter's case number (i.e., at that exporter's rate) will be liquidated at the NME-wide rate.¹⁶

¹⁵ For a full discussion of this practice, see Non-Market Economy Antidumping Proceedings: Assessment of Antidumping Duties, 76 FR 65694 (October 24, 2011) (“NME Assessment 2011”).

¹⁶ See NME Assessment 2011, 76 FR 65694.

Cash Deposit Requirements

The following cash deposit requirements will be effective upon publication of the final results of this administrative review for shipments of the subject merchandise from the PRC entered, or withdrawn from warehouse, for consumption on or after the publication date, as provided by sections 751(a)(2)(C) of the Act: (1) For previously investigated or reviewed PRC and non-PRC exporters that received a separate rate in a prior segment of this proceeding, the cash deposit rate will continue to be the existing exporter-specific rate; (2) for all PRC exporters of subject merchandise that have not been found to be entitled to a separate rate (i.e., the firms listed in footnote 14), the cash deposit rate will be that for the PRC-wide entity; and (3) for all non-PRC exporters of subject merchandise which have not received their own rate, the cash deposit rate will be the rate applicable to the PRC exporter that supplied that non-PRC exporter. These deposit requirements, when imposed, shall remain in effect until further notice.

Notification to Importers

This notice serves as a preliminary reminder to the importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice is published in accordance with sections 751(a)(1) and 777(i)(1) of the Act, 19 CFR 351.221(b)(4).

Dated: February 20, 2014.
Paul Piquado,
Assistant Secretary for Enforcement and Compliance.

Appendix

List of Topics Discussed in the Preliminary Decision Memorandum

1. Background

2. Scope of the Order

3. PRC Wide Entity

4. PRC Wide Entity Rate

5. Recommendation

[FR Doc. 2014-04353 Filed 2-26-14; 8:45 am]

BILLING CODE 3510-DS-P